DEPARTMENT OF LABOR

Employment and Training Administration

[TA-W-50,887]

General Binding Corporation, Notice of Termination of Investigation, De Forest, WI

Pursuant to Section 221 of the Trade Act of 1974, as amended, an investigation was initiated on February 13, 2003 in response to a worker petition filed on behalf of workers at General Binding Corporation, De Forest, Wisconsin.

The petitioning group of workers is covered by an earlier petition filed on January 31, 2003 (TA-W-50,813) that is the subject of an ongoing investigation for which a determination has not yet been issued. Further investigation in this case would duplicate efforts and serve no purpose; therefore the investigation under this petition has been terminated.

Signed at Washington, DC this 21st day of February, 2003.
Richard Church,
Certifying Officer, Division of Trade Adjustment Assistance.

[FR Doc. 03-5420 Filed 3-6-03; 8:45 am]

BILLING CODE 4510-30-P